DEPARTMENT OF TRANSPORTATION

Federal Aviation Administration

14 CFR Part 60

[Docket No. FAA-2014-0391; Notice No. 2014-04]

RIN 2120-AK08

Flight Simulation Training Device Qualification Standards for Extended Envelope and Adverse Weather Event Training Tasks; Extension of Comment Period

AGENCY: Federal Aviation Administration (FAA), DOT.

ACTION: Notice of proposed rulemaking (NPRM); extension of comment period.

SUMMARY: This action extends the comment period for an NPRM that was published on July 10, 2014. In that document, the FAA proposed new and updated flight simulation training device (FSTD) technical evaluation requirements that are necessary to fully implement the training requirements recently adopted in the Qualification, Service, and Use of Crewmembers and Aircraft Dispatchers final rule (Crewmember and Aircraft Dispatcher Training Final Rule) published on November 12, 2013. Additionally, the FAA proposed further changes to address several NTSB safety recommendations, aviation rulemaking committee recommendations, and to conduct a limited alignment of the part 60 FSTD technical evaluation requirements with that of the latest international FSTD evaluation guidance document. One airline, an association that represents several airlines, and an FSTD sponsor have requested that the FAA extend the comment period to allow time to adequately analyze the NPRM and prepare comments.

DATES: The comment period for the NPRM published on July 10, 2014 (79 FR 39461), which was scheduled to close on October 8, 2014, is hereby extended until January 6, 2015.

ADDRESSES: You may send comments identified by docket number FAA-2014-0391 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: For technical questions concerning this action, contact Larry McDonald, Air Transportation Division/National Simulator Program Branch, AFS-205, Federal Aviation Administration, P.O. Box 20636, Atlanta, GA 30320; telephone (404) 474-5620; email larry.e.mcdonald@faa.gov.

For legal questions concerning this action, contact Robert H. Frenzel, Manager, Operations Law Branch, Office of the Chief Counsel, Regulations Division (AGC-200), Federal Aviation Administration, 800 Independence Avenue SW., Washington, DC 20591; telephone (202) 267-3073; email Robert.Frenzel@faa.gov.

SUPPLEMENTARY INFORMATION: See the “Additional Information” section for information on how to comment on this proposal and how the FAA will handle comments received. The “Additional Information” section also contains related information about the docket, privacy, and the handling of proprietary or confidential business information. In addition, there is information on obtaining copies of related rulemaking documents.

Background

On July 10, 2014, the FAA published a notice of proposed rulemaking (NPRM), entitled “Flight Simulation Training Device Qualification Standards for Extended Envelope and Adverse Weather Event Training Tasks” (79 FR 39461). Comments to that document were to be received on or before October 8, 2014.

By letter dated July 15, 2014, posted to the electronic docket for this NPRM, American Airlines requested that the FAA extend the comment period for the NPRM from 90 days to 180 days. The commenter stated that additional time is necessary to do a “complete and proper analysis of this complex proposed rule.”

By letter dated August 13, 2014, posted to the electronic docket for this NPRM Airlines for America (A4A), an industry group which represents multiple airlines that are directly affected by this proposal, requested that the FAA extend the comment period an additional 90 days. The commenter stated that additional time is necessary to provide meaningful comments on this proposed rule.

By letter dated August 21, 2014 posted to the electronic docket for this NPRM FlightSafety International, an FSTD sponsor and flight training provider also requested that the FAA extend the comment period by 90 days in order to thoroughly review the proposal, prepare its response and submit comments.

The FAA has reviewed the requests for extension and has additionally spoken to members of the Simulator Technical Issues Group¹ (STIG) about the reasons why an extension is needed. Several members of the STIG advised that the proposal is very lengthy and difficult to directly compare with the existing part 60 rule. The FAA emphasizes that the primary reason for its length is due to the proposal to align a portion of the part 60 standards with current international FSTD evaluation guidelines published in the International Civil Aviation Organization (ICAO) document 9625 Edition 3, Manual of Criteria for the Qualification of Flight Simulation Training Devices (ICAO 9625, Edition 3).

¹ The Simulator Technical Issues Group (STIG) is an industry working group organized by Airlines for America (A4A) and is attended by multiple airlines, simulator manufacturers, simulator data providers, airframe manufacturers, and simulator training providers. The FAA met with the STIG on August 20, 2014 to address questions on the NPRM. A summary of FAA's participation in that meeting has been posted to the electronic docket for this NPRM.

The FAA is proposing to align a portion of the part 60 standards with the ICAO 9625 FSTD evaluation guidance document to be responsive to industry's historical requests for the FAA to align with the most current international standards. Part of the benefits of international alignment is to reduce the number of differences in regulatory requirements between various National Aviation Authorities by using a common source document. In addition to simply aligning with the basic requirements of the ICAO 9625 document, the FAA found that by aligning with the document's format, numbering system, and language used in many of the tables, differences between the part 60 standards and ICAO 9625 could potentially be minimized even further going forward. To accomplish this, many of the tables in the Qualification Performance Standards (QPS) appendices of the proposal were completely rewritten as compared to the current part 60 QPS appendices.

The FAA concurs with the commenters desire to provide the FAA with meaningful comments and hereby grants the additional 90 days to the comment period as requested. To further assist the commenters in reviewing this proposal, the FAA has prepared and submitted to the docket a summary matrix that better explains where the changes to the tables in the QPS appendices were made relative to the current part 60 rule (Document # FAA-2014-0391-0008 in the electronic docket for this NPRM). The FAA also arranged to place in the docket a read-only non-printable PDF of a portion of ICAO 9625 to be used for reference only. The FAA notes that this document will be removed from the docket at the end of the comment period. With this additional information, the FAA finds that providing an additional 90 days is sufficient for these commenters to analyze the NPRM and provide meaningful comment.

Absent unusual circumstances, the FAA does not anticipate any further extension of the comment period for this rulemaking.

Extension of Comment Period

In accordance with § 11.47(c) of title 14, Code of Federal Regulations, the FAA has reviewed the comments requesting an extension of the comment period for Notice No. 2014-04 and has determined that extension of the comment period is consistent with the public interest, and that good cause exists for taking this action.

Accordingly, the comment period for Notice No. 2014-04 is extended until January 6, 2015.

Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Proprietary or Confidential Business Information: Do not file proprietary or confidential business information in the docket. Such information must be sent or delivered directly to the person identified in the FOR FURTHER INFORMATION CONTACT section of this document, and marked as proprietary or confidential. If submitting information on a disk or CD ROM, mark the outside of the disk or CD ROM, and identify electronically within the disk or CD ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or notice number of this rulemaking.

All documents the FAA considered in developing this proposed rule, including economic analyses and technical reports, may be accessed from the Internet through the Federal eRulemaking Portal referenced in item (1) above.

Issued under authority provided by 49 U.S.C. 106(f), 44701(a), 44703, and Public Law 111-216, 124 Stat. 2348 (49 U.S.C. 44701 note) in Washington, DC, on September 10, 2014.
Brenda D. Courtney,
Acting Director, Office of Rulemaking.

[FR Doc. 2014-21938 Filed 9-15-14; 8:45 am]

BILLING CODE 4910-13-P